FEDERAL COMMUNICATIONS COMMISSION

[WT Docket No. 02-55; DA 20-321; FRS 16716]

Improving Public Safety Communications in the 800 MHZ Band

AGENCY: Federal Communications Commission.

ACTION: Notice.

SUMMARY: In this document, the Federal Communications Commission (Commission) takes steps to accelerate the successful conclusion of the Commission's 800 MHz band reconfiguration program, or rebanding. Specifically, this Order declares a list of licensees that have completed physical rebanding but, because they (a) have failed timely to complete the closing process dictated by the Commission's 800 MHz Orders or (b) timely filed notification that they have a remaining dispute with Sprint, are deemed to have completed rebanding and have no further rights under the Commission's 800 MHz orders, including recourse to the dispute resolution or other services of the 800 MHz Transition Administrator.

DATES: Effective June 12, 2020.

FOR FURTHER INFORMATION CONTACT: Roberto Mussenden, Policy and Licensing Division, Public Safety and Homeland Security Bureau, (202) 418-1428.

SUPPLEMENTARY INFORMATION: This is a summary of the Public Safety and Homeland Security Bureau's Order in WT Docket No. 02-55, DA 20-321, released on March 23, 2020. The document is available for download at http://fjallfoss.fcc.gov/edocs_public/. The complete text of this document is also available for inspection and copying during normal business hours in the FCC Reference Information Center, Portals II, 445 12th Street SW, Room CY-A257, Washington, DC 20554. To request materials in accessible formats for people with disabilities (Braille, large print, electronic files, audio format), send an email to FCC504@fcc.gov or call the Consumer & Governmental Affairs Bureau at 202-418-0530 (voice), 202-418-0432 (TTY).

1. In the Order, the Bureau, after consultation with Sprint and the Transition Administrator, has determined each of the licensees listed below has: (a) Completed physical reconfiguration, (b) has not submitted a timely, accurate completion certification, and (c) has not timely advised that it has an outstanding dispute with Sprint. The Bureau is satisfied, therefore, that the listed licensees have been successfully rebanded and that Sprint has satisfied its rebanding obligations to them.

2. Pursuant to the authority delegated to it, the Bureau deems the licensees listed below to have completed rebanding. Consequently, the Bureau terminates each listed licensee's rights under the Commission's 800 MHz rebanding orders, including the right to the TA's dispute resolution process and further reimbursement of costs.

Procedural Matters

A. Paperwork Reduction Act of 1995 Analysis

3. The Order document does not contains new or modified information collection requirements subject to the Paperwork Reduction Act of 1995 (PRA), Public Law 104-13.

B. Report to Congress

4. The Commission will not send a copy of this Order to Congress and the Government Accountability Office pursuant to the Congressional Review Act, see 5 U.S.C. 801(a)(1)(A), because the Commission did not adopt any rules of particular applicability.

Ordering Clause

5. Accordingly, it is ordered that, pursuant to sections 4(i), 4(j), 301, 303, and 403 of the Communications Act of 1934, as amended, 47 U.S.C. 154(i), 154(j), 301, 303, and 403, the Order is hereby adopted.

6. This action is taken under delegated authority pursuant to Sections 0.191 and 0.392 of the Commission's rules, 47 CFR 0.191 and 0.392.

Appendix—Listing by Licensee Name

Listing of Licensees by Licensee Name That Have Completed Physical Reconfiguration, Have Not Timely Submitted an Acceptable Completion Certification to Sprint, and Have Not Advised the TA That the Licensee Has a Dispute With Sprint
Licensee name | Call sign(s) | FRA ID | FRA name
3KFA, LLC | KNJH406 | DL8910460127 | 3KFA, LLC.
ACTION COMMUNICATIONS INC | WPGY701 | DL8910458167 | Action Communications Inc.
ARAPAHOE, COUNTY OF | WPFH510, WPKM930, WQCZ740 | DL8910427769 | Colorado, State of PH II.
ArcelorMittal Cleveland Inc | WNLH463, WNXG931 | DL8910447621 | ArcelorMittal Cleveland Inc.
ARMIJO, DONALD | WPGY705 | DL8910458167 | Action Communications Inc.
BACA, COUNTY OF | WPNP223, WQDZ548 | DL8910427769 | Colorado, State of PH II.
BAYAMON, MUNICIPAL GOVERNMENT OF | WPHZ368 | DL8910427603 | BAYAMON, MUNICIPAL GOVERNMENT OF, PR PH II.
BELL, COUNTY OF | WPML265, WPML266, WQHS400 | DL8910427609 | BELL, COUNTY OF, TX PH II.
BIBB, COUNTY OF | WNVR832 | DL8904418967 | BIBB, COUNTY OF, GA.
BIRMINGHAM, CITY OF | WPZE311 | DL8910427624 | BIRMINGHAM, CITY OF, AL PH II.
BLANCO, COUNTY OF | WQGB437 | DL8910437765 | Blanco County, TX PH II.
BOSSIER, CITY OF | WNBU589 | DL8910427637 | Bossier, City of, LA PH II.
Boston Public Health Commission, City of | WPHZ634 | DL8910427665 | Boston Public Health Commission, City of, MA PH II.
BOSTON, CITY OF | WNGY708, WPFF631, WPFF645, WPHY940, WQBA899, WQBB424 | DL8904426344 | Boston, City of—Police (MA).
BOSTON, CITY OF | KKR520, KNJA565, WPYH902, WQDU213 | DL8910427639 | BOSTON, CITY OF, MA PH II—Trunked System.
BOSTON, CITY OF | WPHZ904, WPLZ982, WPMD613 | DL8910432845 | BOSTON, CITY OF, MA PH II—POLICE.
BOULDER, CITY OF | WPRG380 | DL8910427769 | Colorado, State of PH II.
BOULDER, COUNTY OF | WPRG378 | DL8910427769 | Colorado, State of PH II.
BROWNSVILLE, CITY OF | WPGR394, WPGT607, WQLR527 | DL8910427656 | BROWNSVILLE, CITY OF, TX PH II.
CAMDEN, CITY OF | WQDC490 | DL8910427676 | CAMDEN, CITY OF, NJ PH II.
Cameron, County of | WNVL281, WQMH572 | DL8910458177 | Cameron, County of, TX.
CAPITAL REGION AIRPORT COMMISSION | WPLX453 | DL8910427680 | CAPITAL REGION AIRPORT COMMISSION, VA PH II.
CARMEL, CITY OF | WNVF998 | DL8910427915 | HAMILTON, COUNTY OF, IN PH II.
CARROLLTON, CITY OF | KNJU868 | DL8910427686 | CARROLLTON, CITY OF, TX PH II.
CHARLES, COUNTY OF | WPZH908, WPZI729, WPZR834, WPZR835, WQCL724, WQFY836, WQFY838, WQLG538 | DL8910427695 | CHARLES, COUNTY OF, MD PH II.
Charlotte, City of | WPUN602, WQHB874, WQHB875 | DL8910428114 | MECKLENBURG, COUNTY OF, NC PH II.
CHERRY HILL, TOWNSHIP OF | WPRI877, WPRI907 | DL8910427707 | CHERRY HILL, TOWNSHIP OF, NJ PH II.
CHICAGO, CITY OF | WNAJ329 | DL8910434745 | Chicago, City of, IL PH II Aviation.
City of Richmond | WPPB793 | DL8910428350 | RICHMOND, CITY OF, VA PH II.
COLORADO, STATE OF | WNXN848, WPAZ640, WPCJ843, WPFQ225, WPFQ267, WPHK881, WPJU925, WPKK592, WPMF617, WPNT769, WPPU345, WPPU346, WPPU347, WPPU371, WPPU372, WPRR696, WPRR740, WPRR756, WPRV777, WPRV815, WPRV816, WPRZ828, WPSG917, WPSH437, WPSH613, WPSK325, WPSK701, WPSM559, WPSQ525, WPTL723, WPTL725, WPTM601, WPTN359, WPTP867, WPTW329, WPUJ277, WPUJ668, WPUP350, WPUP354, WPUP356, WPUP357, WPUP362, WPUP364, WPUP366, WPUQ367, WPUS321, WPUU423, WPVU788, WPVU791, WPVU792, WPVW302, WPVW304, WPVW306, WPVW559, WPVW563, WPWK919, WPWK921, WPXA400, WPXA401, WPXA402, WPXA403, WPXA404, WPXA405, WPXC444, WPXC445, WPXH324, WPXY514, WPYS738, WPYS800, WPYT630, WPYT677, WPZR719, WPZR730, WPZR732, WPZS494, WQAM345, WQAW727, WQAW901, WQAX736, WQAY630, WQAZ298, WQBM307, WQBM309, WQBM311, WQBM312, WQBM328, WQBM329, WQBM330, WQBM331, WQBM336, WQBM791, WQBM793, WQCT916, WQCU591, WQDA801, WQDF397, WQDG483, WQDJ818, WQDK721, WQDL740, WQDM887, WQDT629, WQDW783, WQDX507, WQDY458, WQDY462, WQEA389, WQEA390, WQEA391, WQEA635, WQED556, WQEE615, WQEE616, WQEE617 | DL8910427769 | Colorado, State of PH II.
COLTON UNIFIED SCHOOL DISTRICT | WYQ556 | DL8910419021 | COLTON UNIFIED SCHOOL DISTRICT.
COMANCHE COMMUNICATIONS | WPPB228, WPUP680, WQAF343 | CERT050 | Comanche Communications.
Continental Airlines, Inc | WNSK462 | DL8910447661 | Continental Airlines, Inc.
COPPERAS COVE, CITY OF | WQAH913 | DL8910427743 | COPPERAS COVE, CITY OF, TX PH II.
County of Catawba | WPTR976 | DL8910428210 | NORTH CAROLINA, STATE OF PH II.
CPC Arizona Holdings, Inc | WPPA535 | DL8910458228 | CPC Arizona Holdings, Inc.
Creative Communications—Interop Only | N/A | DL8910463987 | Creative Communications—Interop Only.
DeKalb County Police Department | KNAN828, KR9746, WZC779 | DL8904419062 | DeKalb County Police Department, GA.
DeLasaux, Thomas G | WNXQ289, WNZY833 | DL8904419804 | DeLasaux, Thomas.
DILLON, RICHARD | WPGY693 | DL8910458167 | Action Communications Inc.
DOUGLAS, COUNTY OF | WPLW647, WQDE613, WQDG482, WQHK854 | DL8910427769 | Colorado, State of PH II.
EASTSIDE PUBLIC SAFETY COMMUNICATIONS AGENCY | WPDU516, WPGR930, WQET932, WQET935, WQJL506, WQMQ368, WQOI770, WQOI771 | DL8910427818 | Eastside Public Safety Comm Agency, WA.
EDINBURG CISD POLICE DEPARTMENT | WPTY454 | DL8910427820 | EDINBURG CISD POLICE DEPARTMENT, TX PH II.
EDMOND, CITY OF | WPTX256, WQCL942, WQHK876 | DL8910427822 | EDMOND, CITY OF, OK PH II.
ELGIN, CITY OF | KNBX891, WPHX763, WQGB480 | DL8910427826 | ELGIN, CITY OF, IL PH II.
ESCAMBIA, COUNTY OF | WPHY873 | DL8904419269 | PENSACOLA, CITY OF, FL.
Falcon Trucking Company | WPYJ962 | CERT019 | Falcon Trucking Company.
FAYETTEVILLE, CITY OF | WNLK950, WPFQ241, WPJJ239 | DL8910427849 | FAYETTEVILLE, CITY OF, NC PH II.
Fort Collins, City of | WPJT938 | DL8910427769 | Colorado, State of PH II.
GEAUGA, COUNTY OF | WNGS649, WQNC532 | DL8910447690 | Geauga, County of, OH.
GILA RIVER INDIAN COMMUNITY | WPVV494 | DL8910427883 | GILA RIVER INDIAN COMMUNITY, AZ PH II.
GRAND PRAIRIE, CITY OF | WNFV258, WPFF376 | DL8910427891 | GRAND PRAIRIE, CITY OF, TX PH II.
GREELEY, CITY OF | WPBP275 | DL8910427769 | Colorado, State of PH II.
GREEN, CITY OF | WPAQ935 | DL8910433485 | Green, City of OH.
GREENWICH, TOWN OF | WNNM890, WPMA766 | DL8910427903 | GREENWICH, TOWN OF, CT PH II.
HAMILTON, COUNTY OF | WNSD453 | DL8910427915 | HAMILTON, COUNTY OF, IN PH II.
HIDALGO, CITY OF | WQGM640, WRAP892 | DL8910458248 | Hidalgo, City of.
Holland, William M | WQCH480 | DL8910464147 | William Holland.
Hooper, Dennisse B | WPHS504 | DL8904419125 | HOOPER, STEVEN E.
HOUSTON INDEPENDENT SCHOOL DISTRICT | WPTE909, WPTN982 | DL8910427946 | HOUSTON INDEPENDENT SCHOOL DISTRICT, TX PH II.
HUERFANO, COUNTY OF | WQDZ774 | DL8910427769 | Colorado, State of PH II.
HUNTSVILLE UTILITIES | WPTJ977 | DL8910427953 | HUNTSVILLE, CITY OF, AL PH II.
HUNTSVILLE, CITY OF | WPHI451, WPPD898, WQAU729, WQER591 | DL8910427953 | HUNTSVILLE, CITY OF, AL PH II.
ILLINOIS PUBLIC SAFETY AGENCY NETWORK | WPHY365, WPKG583, WPKP764, WPKX703, WPSP557, WPXM784 | DL8910434725 | Illinois, State of, PH II Public Safety Agency Network.
IRVING, CITY OF | WPJQ645, WQCJ480 | DL8910427974 | IRVING, CITY OF, TX PH II.
J. PAUL GETTY TRUST | KQG497 | DL8910419140 | J. Paul Getty Trust.
Jefferson County Commission | WPTC288 | DL8910427624 | BIRMINGHAM, CITY OF, AL PH II.
JEFFERSON PARISH FIRE DISTRICT 1 | WNRE827 | DL8904419147 | JEFFERSON, PARISH OF, LA.
JEFFERSON, COUNTY OF | KNNJ873, WNHV507, WQDX703, WQEA798, WQIV850 | DL8910427624 | BIRMINGHAM, CITY OF, AL PH II.
JEFFERSON, COUNTY OF | WPAP649, WPMI204, WQGX351 | DL8910427769 | Colorado, State of PH II.
JEFFERSON, PARISH OF | KNHH513, KNJA737 | DL8904419147 | JEFFERSON, PARISH OF, LA.
LA JUNTA, CITY OF | WQCD531 | DL8910427769 | Colorado, State of PH II.
LA MESA SPRING VALLEY SCHOOL DISTRICT | WNHS767 | DL8910458272 | La Mesa Spring Valley School District.
LAKE ELSINORE UNIFIED SCHOOL DISTRICT | WNQL811 | DL8910419169 | LAKE ELSINORE UNIFIED SCHOOL DISTRICT, CA.
LAKE HAVASU CITY, CITY OF | WPXB342 | DL8910428033 | LAKE HAVASU CITY, CITY OF, AZ PH II.
Las Cruces, City of | KNNP960, KNNP962, WNZU211 | DL8910428043 | LAS CRUCES, CITY OF, NM PH II.
LIBERTY COMMUNICATIONS INC | KNIQ708, WPBI305, WPDQ841, WPIT419, WPJW341, WPKJ959, WPLS383, WPLS406, WPXP611, WPXP955, WPXP958 | DL8904419190 | Liberty Communications, Inc.
LIVE OAK, CITY OF | WPWD493 | DL8910428061 | LIVE OAK, CITY OF, TX PH II.
LONGVIEW, CITY OF | WPKT699 | DL8910428070 | LONGVIEW, CITY OF, TX PH II.
Los Angeles County Office of Education, Transportation Section | WZA814 | CERT047 | Los Angeles County Office of Education.
LOWNDES, COUNTY OF | WPMT690, WPYU757, WQDF255 | DL8910428078 | LOWNDES, COUNTY OF, GA PH II.
Loya, Carmen G | WPPA500 | DL8910458275 | Loya, Carmen G.
LOYA, LUCILDA | WQES955 | DL8910458275 | Loya, Carmen G.
MACON, CITY OF | WPXX405 | DL8904418967 | BIBB, COUNTY OF, GA.
MANSFIELD, CITY OF | WNXC886 | DL8910428092 | MANSFIELD, CITY OF, TX PH II.
MARION, COUNTY OF | WQDH468, WQDH497, WQGX541 | DL8910428096 | MARION, COUNTY OF, FL PH II.
MARYLAND, STATE OF—DPSCS | WPTX572 | DL8910428102 | MARYLAND, STATE OF PH II.
MASSACHUSETTS PORT AUTHORITY | WPAQ455 | DL8910428105 | MASSACHUSETTS PORT AUTHORITY, MA PH II.
MC NAMARA, ALICE J | WPGY689 | DL8910458167 | Action Communications Inc.
MCALLEN INDEPENDENT SCHOOL DISTRICT | WPRT853 | DL8910458291 | McAllen Independent School District.
MEARS DESTINATION SERVICES INC | WNNO864 | DL8904419130 | Hubbard Construction Company #3.
MECKLENBURG, COUNTY OF | WPEN288, WPUV635, WQEX452, WQFR285, WQFR286 | DL8910428114 | MECKLENBURG, COUNTY OF, NC PH II.
MED CARE EMS INC | WPSE229 | CERT055 | Med Care EMS Inc.
METROPOLITAN ATLANTA RAPID TRANSIT AUTHORITY | WQBZ553, WQCN601 | DL8910428179 | Metropolitan Atlanta Rapid Transit Authority, GA PH II.
METROPOLITAN WASHINGTON AIRPORTS AUTHORITY (MWAA) | WPAY961, WQID395, WQID396, WQJE989 | DL8910428126 | METRO WASHINGTON AIRPORTS AUTH (MWAA) PH II.
Mobile Relay Associates | WQLD477 | DL8910459907 | Mobile Relay Associates Rebanding.
MOBILE RELAY PARTNERS LTD | WPTA416 | DL8910458298 | Mobile Relay Partners Ltd.
MOFFAT, COUNTY OF | WQCP257 | DL8910427769 | Colorado, State of PH II.
MONTROSE, CITY OF | WPYI943 | DL8910427769 | Colorado, State of PH II.
NASSAU, COUNTY OF | WNNM884, WNNM885 | DL8910428185 | NASSAU, COUNTY OF, NY PH II.
NEW HANOVER, COUNTY OF | WNUX409, WPHZ633, WQAQ374 | DL8910428222 | New Hanover, County of, NC PH II.
NEW ORLEANS, CITY OF | WPDT285, WQDF937 | DL8910428196 | New Orleans, City of, LA PH II.
NEW ORLEANS, PORT OF | WPHY866 | DL8910435965 | NEW ORLEANS, PORT OF PH II.
NORFOLK, COUNTY OF | WPXP591 | DL8910428206 | NORFOLK, COUNTY OF, MA PH II.
NORTH CAROLINA STATE HIGHWAY PATROL | WPHM257, WPMU588, WPMU769, WPMW363, WPQY486, WPQY584, WPUT647, WPXZ637, WQBB953, WQBK307, WQBK492, WQBK493, WQBK495, WQBK496, WQBK498, WQCQ970, WQCQ971, WQCQ972, WQCQ973, WQCR583, WQCR608, WQCS267, WQCS278, WQCS279, WQCS642, WQCS907, WQCS908, WQCS909, WQCS910, WQCS911, WQCT414, WQCT415, WQCT913, WQCT914, WQCU592, WQCV475, WQCV476, WQCV477, WQCV811, WQCV812, WQCV814, WQCW513, WQCW514, WQCW868, WQCX285, WQCX286, WQCX444, WQCX446, WQCX999, WQCZ372, WQCZ376, WQCZ378, WQCZ390, WQDE964, WQDE967, WQDE973, WQDE975, WQDE978, WQDE982, WQDE986, WQDE987, WQDE988, WQDE989, WQDE990, WQDE992, WQDE993, WQDE994, WQDE995, WQDE997, WQDE999, WQDF200, WQDF202, WQDF204, WQDF207, WQDF208, WQDF209, WQDF211, WQDF212, WQDF214, WQDF215, WQDG264, WQDJ700, WQDL934, WQDN676, WQDW238, WQEE271, WQEE297, WQEE298, WQEE299, WQEF260, WQEF742, WQEQ547, WQET821, WQET823, WQET824, WQFJ228, WQFJ585, WQFJ586, WQFK579, WQFK581, WQFK582, WQFK718, WQFK758, WQFK759, WQFK761, WQFN452, WQFN734, WQFN735, WQFN736, WQFP534, WQFQ491, WQFQ496, WQHJ334, WQHJ335 | DL8910428210 | NORTH CAROLINA, STATE OF PH II.
NORTH CAROLINA, STATE OF | WPMU550, WPMU554, WPMU562, WPMU583, WPMU584, WPMU585, WPMU587, WPMU592, WPMU593, WPMU594, WPMU596, WPMU763, WPMU764, WPMU767, WPMU768, WPNY211, WPNZ303, WPRV578, WPSM549, WPSM605, WPUS216, WPUS587, WPUS984, WPUS985, WPUS986, WPUT648, WPUU518, WPUV349, WPUV498, WPXZ639 | DL8910428210 | NORTH CAROLINA, STATE OF PH II.
NORTHERN ARIZONA UNIVERSITY | WQOM679 | DL8910459767 | Northern Arizona University.
Northern Colorado Radio Communications Network | WPOY442, WPSM706, WPXC683, WQHH604 | DL8910427769 | Colorado, State of PH II.
NORWALK, CITY OF | WNQS468 | DL8910428219 | NORWALK, CITY OF, CT PH II.
NOXUBEE, COUNTY OF | WQCB473, WQCC270 | DL8910428220 | NOXUBEE, COUNTY OF, MS PH II.
Onslow County of | WPSI475, WPSJ690, WQIT613 | DL8910428244 | ONSLOW COUNTY OF, NC PH II.
ORANGE, CITY OF | WNVP234 | DL8910428250 | Orange, City of, TX Ph II.
ORLEANS PARISH SCHOOL BOARD | KNBT295, KNJU690 | DL8904419251 | Orleans Parish School Board, LA.
Oxy USA Inc | WNLS488 | CERT036 | Oxy USA Inc.
Parma Heights, City of | WPIQ583 | DL8910428326 | Parma Heights, City of, OH.
PASCUA YAQUI TRIBE | WPQJ764 | DL8910458310 | Pascua Yaqui Tribe.
Pennington, Agnes | WPMQ450, WPPX541, WQTF798 | DL8910458168 | Agnes Pennington.
PENSACOLA, CITY OF | WPUB901 | DL8904419269 | PENSACOLA, CITY OF, FL.
PINELLAS, COUNTY OF | KNJH386, WPJR956, WPWU779, WPWX247, WPWX249, WQFQ771, WQIU920 | DL8910428295 | PINELLAS, COUNTY OF, FL PH II.
PLANTATION, CITY OF | KNGK462 | DL8910428302 | PLANTATION, CITY OF, FL PH II.
POLK, COUNTY OF | WPTG316 | DL8910428305 | POLK, COUNTY OF, IA PH II.
PORTLAND, CITY OF | WPMW699, WPVJ264, WPXJ988, WQGU307, WQIK759, WQIP906 | DL8910428310 | PORTLAND, CITY OF, ME PH II.
PORTSMOUTH, CITY OF | WNFV945, WQDZ868 | DL8910428312 | PORTSMOUTH, CITY OF, VA PH II.
Puerto Rico State Police | WPEM247, WQER853, WQEY620, WQFG484, WQFU672, WQJU730, WQJU731, WQJX789 | DL8910428329 | Puerto Rico State Police, PR PH II.
PUERTO RICO, COMMONWEALTH OF | WPPX592 | DL8910428323 | PUERTO RICO, COMMONWEALTH OF PH II.
RADIO SERVICE COMPANY | WNXZ684, WNXZ686, WPBB209 | DL8910447758 | Radio Service Company Canadian Rebanding.
RANKIN, COUNTY OF | WPHY524, WQKK325 | DL8904419287 | RANKIN, COUNTY OF, MS.
RAPIDES, PARISH OF | WNKE392 | DL8910428333 | RAPIDES, PARISH OF, LA.
RENSSELAER, COUNTY OF | WPJS218, WPWY908 | DL8910428341 | RENSSELAER, COUNTY OF, NY PH II.
RIO GRANDE CITY C.I.S.D. POLICE DEPARTMENT | WPWE568 | DL8910460147 | Rio Grande Police Department.
RIO GRANDE, CITY OF | WPIR759, WPPF750, WPUN575 | DL8910458327 | Rio Grande, City of.
Roma I.S.D. Transportation Department | WQSH219 | DL8910458329 | Roma CISD Transportation Dept.
SAINT PETERSBURG, CITY OF | KNJU726 | DL8910428295 | PINELLAS, COUNTY OF, FL PH II.
SAN BENITO C.I.S.D. POLICE DEPARTMENT | WPWX324 | DL8910428387 | SAN BENITO C.I.S.D. POLICE DEPARTMENT, TX PH II.
San Diego Gas & Electric Company | WNKV831, WNKV832, WQBB624 | DL8910458348 | San Diego Gas & Electric Mexican Rebanding.
SANTA CLARA, CITY OF | WPCP221, WPDS577, WPGR698, WPRS440 | DL8910428403 | Santa Clara, City of, CA PH II.
SANTA FE, CITY OF | WQJQ630, WQLD772 | DL8910440585 | Santa Fe, City of, NM PH II.
SANTA MONICA, CITY OF | WNVF968 | CERT048 | SANTA MONICA, CITY OF.
Schull, Erik D | WPJU842 | DL8910464387 | Schull, Erik D.
Snohomish County Emergency Radio System (SERS) | WPUP506, WPWA883, WPWC441, WPYP801, WPYP950, WPYQ414, WPYQ910, WPYQ911, WPYQ915, WPYR857, WPYR879 | DL8910428437 | Snohomish County Emergency Radio System, WA.
SOCORRO INDEPENDENT SCHOOL DISTRICT | WPLZ450 | CERT054 | Socorro Independent School District.
SOMERSET, COUNTY OF, MD PH II | N/A | DL8910428439 | SOMERSET, COUNTY OF, MD PH II.
STARK, COUNTY OF | WPLP821, WPLP822, WQID747, WQJW792 | DL8910428459 | Stark, County of, OH.
STEEN, DIRK B | WPGY697 | DL8910458167 | Action Communications Inc.
SUFFOLK, CITY OF | WNMJ688, WPDS262 | DL8910428469 | SUFFOLK, CITY OF, VA PH II.
Telephone Connection, LLC | KNHA498, KRR904, KRT844, KWH855, WGI554, WNXG570, WNXG582, WNXG598, WNXG637, WPGZ423, WPZZ380, WYK281 | DL8910458393 | Telephone Connection.
TENNESSEE, STATE OF | WPMI908, WPPW562, WQCL429, WQCL652, WQCN440, WQDA552, WQDA809, WQDB448, WQDB450, WQDB555, WQDK538, WQDK723, WQDK724, WQDK726, WQDK890, WQDK894 | DL8910428495 | Tennessee, State of PH II (TEMA).
THE BOEING COMPANY | WNCE526, WNLH288, WNSC912, WNXG504, WNXU325, WPAV310, WPKB712, WPKB714, WPKB743, WPLS291, WPMV414, WQMJ390 | DL8910447790 | The Boeing Company.
Third District Enterprises, LLC | KKV815, KNIV764, WNGC552, WNPP680, WNVQ272, WNWB345, WNWQ646, WNXS451, WPFP295, WPHU589, WQDA729, WQDA740, WYA205 | DL8910458407 | Third District Enterprises.
TOHONO OODHAM NATION OF ARIZONA | WPLT955 | DL8910458409 | Tohono Oodham Nation of Arizona.
TORRANCE, CITY OF | WXD691 | DL8910419361 | TORRANCE, CITY OF, CA.
TRAVIS, COUNTY OF | WPQY686, WPVZ418, WPVZ419, WPVZ421, WPVZ422, WPVZ423, WPVZ424, WPVZ426, WPVZ427, WPVZ428, WPVZ429, WPVZ432, WPWJ533, WPWZ427, WPXX380, WPZW901, WPZW902, WQBC298, WQHQ562, WQHQ563, WQHX370, WQIC798 | DL8910428508 | TRAVIS, COUNTY OF, TX PH II.
UNION CITY, CITY OF | WPWN762 | DL8910428518 | UNION CITY, CITY OF, NJ II.
Valley Communications | WQDN602 | DL8910458416 | Valley Communications.
VALLEY COMMUNICATIONS CENTER | WPDQ377, WQBH536, WQBH540, WQGP982, WQGP996, WQGR279, WQJZ866, WQLE636 | DL8910428532 | Valley Communications Center, WA.
Valley Radio Center | WPWH823, WQEM728, WQFQ340 | DL8910458416 | Valley Communications.
VANDERBURGH, COUNTY OF | WNQP592 | DL8910428535 | VANDERBURGH, COUNTY OF, IN PH II.
VICKSBURG, CITY OF | KNNH519, WQDD646, WQDL328, WQPD352, WQPD353 | DL8910428539 | VICKSBURG, CITY OF, MS PH II.
WARREN, CITY OF | WPKM221 | DL8910428555 | Warren, City of, OH.
WARREN, CITY OF | WNSM914 | DL8910447799 | Warren, City of, MI.
WARREN, COUNTY OF | WPLY800, WPQD288 | DL8910428539 | VICKSBURG, CITY OF, MS PH II.
WELD, COUNTY OF | WPRZ902, WPSF779, WPST269, WPST587, WQGZ431 | DL8910427769 | Colorado, State of PH II.
WILLACY, COUNTY OF | WQOD855 | DL8910458432 | Willacy, County of.
WORCESTER, CITY OF | WPAR399 | DL8904416193 | Worcester, City of.
WORCESTER, COUNTY OF | WQCN429, WQCP396 | DL8910428609 | WORCESTER, COUNTY OF, MD PH II.
YSLETA DEL SUR PUEBLO | WPQA229, WQQE444 | DL8910428620 | YSLETA DEL SUR PUEBLO, TX PH II.

Appendix—Same Licensees—Listing by FRA Number

Same Licensees Listed by FRA Number That Have Completed Physical Reconfiguration, Have Not Submitted Timely an Acceptable Completion Certification to Sprint, and Have Not Advised the TA That the Licensee Has a Dispute With Sprint
FRA ID | FRA name
DL8904416193 | WORCESTER, CITY OF.
DL8904418967 | BIBB, COUNTY OF, GA.
DL8904419062 | DeKalb County Police Department, GA.
DL8904419125 | HOOPER, STEVEN E.
DL8904419130 | Hubbard Construction Company #3.
DL8904419147 | JEFFERSON, PARISH OF, LA.
DL8904419190 | Liberty Communications, Inc.
DL8904419251 | ORLEANS PARISH SCHOOL BOARD, LA.
DL8904419269 | PENSACOLA, CITY OF, FL.
DL8904419287 | RANKIN, COUNTY OF, MS.
DL8904419804 | DeLasaux Thomas.
DL8904426344 | Boston, City of—Police (MA).
DL8910419021 | COLTON UNIFIED SCHOOL DISTRICT.
DL8910419140 | J. Paul Getty Trust.
DL8910419169 | LAKE ELSINORE UNIFIED SCHOOL DISTRICT, CA.
DL8910419361 | TORRANCE, CITY OF, CA.
DL8910427603 | BAYAMON, MUNICIPAL GOVERNMENT OF, PR PH II.
DL8910427609 | BELL, COUNTY OF, TX PH II.
DL8910427624 | BIRMINGHAM, CITY OF, AL PH II.
DL8910427637 | BOSSIER, CITY OF, LA PH II.
DL8910427639 | BOSTON, CITY OF, MA PH II.
DL8910427656 | BROWNSVILLE, CITY OF, TX PH II.
DL8910427665 | Boston Public Health Commission, City of, MA PH II.
DL8910427676 | CAMDEN, CITY OF, NJ PH II.
DL8910427680 | CAPITAL REGION AIRPORT COMMISSION, VA PH II.
DL8910427686 | CARROLLTON, CITY OF, TX PH II.
DL8910427695 | CHARLES, COUNTY OF, MD PH II.
DL8910427707 | CHERRY HILL, TOWNSHIP OF, NJ PH II.
DL8910427743 | COPPERAS COVE, CITY OF, TX PH II.
DL8910427769 | Colorado, State of PH II.
DL8910427818 | EASTSIDE PUBLIC SAFETY COMM AGY, WA PH II.
DL8910427820 | EDINBURG CISD POLICE DEPARTMENT, TX PH II.
DL8910427822 | EDMOND, CITY OF, OK PH II.
DL8910427826 | ELGIN, CITY OF, IL PH II.
DL8910427849 | FAYETTEVILLE, CITY OF, NC PH II.
DL8910427883 | GILA RIVER INDIAN COMMUNITY, AZ PH II.
DL8910427891 | GRAND PRAIRIE, CITY OF, TX PH II.
DL8910427903 | GREENWICH, TOWN OF, CT PH II.
DL8910427915 | HAMILTON, COUNTY OF, IN PH II.
DL8910427946 | HOUSTON INDEPENDENT SCHOOL DISTRICT, TX PH II.
DL8910427953 | HUNTSVILLE, CITY OF, AL PH II.
DL8910427974 | IRVING, CITY OF, TX PH II.
DL8910428033 | LAKE HAVASU CITY, CITY OF, AZ PH II.
DL8910428043 | LAS CRUCES, CITY OF, NM PH II.
DL8910428061 | LIVE OAK, CITY OF, TX PH II.
DL8910428070 | LONGVIEW, CITY OF, TX PH II.
DL8910428078 | LOWNDES, COUNTY OF, GA PH II.
DL8910428092 | MANSFIELD, CITY OF, TX PH II.
DL8910428096 | MARION, COUNTY OF, FL PH II.
DL8910428102 | MARYLAND, STATE OF PH II.
DL8910428105 | MASSACHUSETTS PORT AUTHORITY, MA PH II.
DL8910428114 | MECKLENBURG, COUNTY OF, NC PH II.
DL8910428126 | METRO WASHINGTON AIRPORTS AUTH (MWAA) PH II.
DL8910428179 | Metropolitan Atlanta Rapid Transit Authority, GA PH II.
DL8910428185 | NASSAU, COUNTY OF, NY PH II.
DL8910428196 | NEW ORLEANS, CITY OF, LA PH II.
DL8910428206 | NORFOLK, COUNTY OF, MA PH II.
DL8910428210 | NORTH CAROLINA, STATE OF PH II.
DL8910428219 | NORWALK, CITY OF, CT PH II.
DL8910428220 | NOXUBEE, COUNTY OF, MS PH II.
DL8910428222 | New Hanover, County of, NC PH II.
DL8910428244 | ONSLOW COUNTY OF, NC PH II.
DL8910428250 | ORANGE, CITY OF, TX PH II.
DL8910428295 | PINELLAS, COUNTY OF, FL PH II.
DL8910428302 | PLANTATION, CITY OF, FL PH II.
DL8910428305 | POLK, COUNTY OF, IA PH II.
DL8910428310 | PORTLAND, CITY OF, ME PH II.
DL8910428312 | PORTSMOUTH, CITY OF, VA PH II.
DL8910428323 | PUERTO RICO, COMMONWEALTH OF PH II.
DL8910428326 | Parma Heights, City of, OH PH II.
DL8910428329 | Puerto Rico State Police, PR PH II.
DL8910428333 | RAPIDES, PARISH OF, LA PH II.
DL8910428341 | RENSSELAER, COUNTY OF, NY PH II.
DL8910428350 | RICHMOND, CITY OF, VA PH II.
DL8910428387 | SAN BENITO C.I.S.D. POLICE DEPARTMENT, TX PH II.
DL8910428403 | SANTA CLARA, CITY OF, CA PH II.
DL8910428437 | SNOHOMISH COUNTY EMERGENCY RADIO SYSTEM PH II.
DL8910428439 | SOMERSET, COUNTY OF, MD PH II.
DL8910428459 | STARK, COUNTY OF, OH PH II.
DL8910428469 | SUFFOLK, CITY OF, VA PH II.
DL8910428495 | TENNESSEE, STATE OF PH II.
DL8910428508 | TRAVIS, COUNTY OF, TX PH II.
DL8910428518 | UNION CITY, CITY OF, NJ PH II.
DL8910428532 | VALLEY COMMUNICATIONS CENTER, WA PH II.
DL8910428535 | VANDERBURGH, COUNTY OF, IN PH II.
DL8910428539 | VICKSBURG, CITY OF, MS PH II.
DL8910428555 | Warren, City of, OH.
DL8910428609 | WORCESTER, COUNTY OF, MD PH II.
DL8910428620 | YSLETA DEL SUR PUEBLO, TX PH II.
DL8910432845 | BOSTON, CITY OF, MA PH II—POLICE.
DL8910433485 | Green, City of OH.
DL8910434725 | Illinois, State of, PH II Criminal Justice Auth.
DL8910434745 | Chicago, City of, IL PH II Aviation.
DL8910435965 | NEW ORLEANS, PORT OF PH II.
DL8910437765 | BLANCO, COUNTY OF, TX PH II.
DL8910440585 | Santa Fe, City of, NM PH II.
DL8910447621 | ArcelorMittal Cleveland Inc.
DL8910447661 | Continental Airlines, Inc.
DL8910447690 | Geauga, County of, OH.
DL8910447758 | Radio Service Company Canadian Rebanding.
DL8910447790 | The Boeing Company.
DL8910447799 | Warren, City of, MI.
DL8910458167 | Action Communications Inc.
DL8910458168 | Agnes Pennington.
DL8910458177 | Cameron, County of, TX.
DL8910458228 | CPC Arizona Holdings, Inc.
DL8910458248 | Hidalgo, City of.
DL8910458272 | La Mesa Spring Valley School District.
DL8910428620 | YSLETA DEL SUR PUEBLO, TX PH II.
DL8910458291 | McAllen Independent School District.
DL8910458298 | Mobile Relay Partners Ltd.
DL8910458310 | Pascua Yaqui Tribe.
DL8910458327 | Rio Grande, City of.
DL8910458329 | Roma CISD Transportation Dept.
DL8910458348 | San Diego Gas & Electric Mexican Rebanding.
DL8910458393 | Telephone Connection.
DL8910458407 | Third District Enterprises.
DL8910458409 | Tohono Oodham Nation of Arizona.
DL8910458416 | Valley Communications.
DL8910458432 | Willacy, County of.
DL8910459767 | Northern Arizona University.
DL8910459907 | Mobile Relay Associates Rebanding.
DL8910460127 | 3KFA, LLC.
DL8910460147 | Rio Grande Police Department.
DL8910463987 | Creative Communications—Interop Only.
DL8910464147 | William Holland.
DL8910464387 | Schull, Erik D.
CERT019 | FALCON TRUCKING COMPANY.
CERT036 | OXY USA INC.
CERT047 | LOS ANGELES COUNTY OFFICE OF EDUCATION.
CERT048 | SANTA MONICA, CITY OF.
CERT050 | COMANCHE COMMUNICATIONS.
CERT054 | SOCORRO INDEPENDENT SCHOOL DISTRICT.
CERT055 | MEDCARE EMS INC.

Federal Communications Commission.
Marlene Dortch,
Secretary.

[FR Doc. 2020-10163 Filed 5-12-20; 8:45 am]

BILLING CODE 6712-01-P